DEPARTMENT OF DEFENSE

Department of the Air Force

[23-RI-L-02]

Notice of Intent To Grant an Exclusive License With a Joint Ownership Agreement

AGENCY: Department of the Air Force, Department of Defense.

ACTION: Notice of intent.

SUMMARY: Pursuant to the Bayh-Dole Act and implementing regulations, the Department of the Air Force hereby gives notice of its intent to grant an exclusive license with a joint ownership agreement to Tensor Networks, an Inc. duly organized, validly existing, and in good standing in the State of California having a place of business at 1289 Reamwood Ave., Ste. G, Sunnyvale, CA 94089.

DATES: Written objections must be filed no later than fifteen (15) calendar days after the date of publication of this Notice.

ADDRESSES: Submit written objections to Stephen Colenzo, AFRL/RI, 525 Brooks Road, Rome, New York 13441; or email: stephen.colenzo@us.af.mil. Include Docket No. 23-RI-L-02 in the subject line of the message.

FOR FURTHER INFORMATION CONTACT: Stephen Colenzo, AFRL/RI, 525 Brooks Road, Rome, New York 13441; (315) 330-7665 or e mail: stephen.colenzo@us.af.mil.

Abstract of Patent Application(s)

In accordance with various embodiments of the disclosed subject matter, a method and framework configured for modeling a pattern of life (POL) by processing both categorical data and non-categorical data (e.g., numeric, spatial etc.), conducting pattern of life estimation (POLE), and detecting anomalous data in a multi-dimensional data set in a substantially simultaneous manner by comparing statistical PoL results.

Intellectual Property

—POTTENGER ET AL, U.S. Patent No. 11,308,384, issued on 19 April 2022, and entitled “Method and Framework for Pattern of Life Analysis.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Mia Day,
Acting Air Force Federal Register Liaison Officer.

[FR Doc. 2023-09345 Filed 5-2-23; 8:45 am]

BILLING CODE 5001-10-P